ENVIRONMENTAL PROTECTION AGENCY

40 CFR Part 52

[KY 147-200329; FRL-7505-3]

Approval and Promulgation of Implementation Plans, Kentucky: Approval of Revisions to Maintenance Plan for Northern Kentucky

AGENCY: Environmental Protection Agency (EPA).

ACTION: Final rule.

SUMMARY: EPA is approving a revision to the state implementation plan (SIP) of the Commonwealth of Kentucky to revise the motor vehicle emission budgets (MVEBs) for the Northern Kentucky 1-hour ozone maintenance area for the year 2010. The Northern Kentucky maintenance area, a subset of the Cincinnati-Hamilton maintenance area, includes the three Kentucky counties of Boone, Campbell and Kenton. The Commonwealth's submittal also clearly identifies that the Ohio portion and the Kentucky portion of the Cincinnati-Hamilton maintenance area will have subarea budgets for the purposes of implementing transportation conformity.

EFFECTIVE DATE: This rule will be effective June 30, 2003.

ADDRESSES: All comments should be addressed to: Michele Notarianni; Air Planning Branch; Air, Pesticides and Toxics Management Division; U.S. Environmental Protection Agency Region 4; 61 Forsyth Street, SW., Atlanta, Georgia 30303-8960. ((404) 562-9031 (phone) or notarianni.michele@epa.gov (e-mail).)

Copies of the State submittal(s) are available at the following addresses for inspection during normal business hours:

Environmental Protection Agency, Region 4, Air Planning Branch, 61 Forsyth Street, SW., Atlanta, Georgia 30303-8960. (Michele Notarianni, (404) 562-9031, notarianni.michele@epa.gov).

Commonwealth of Kentucky, Division for Air Quality, 803 Schenkel Lane, Frankfort, Kentucky 40601-1403. ((502) 573-3382).

FOR FURTHER INFORMATION CONTACT: Michele Notarianni, Air Planning Branch, Air, Pesticides and Toxics Management Division, Region 4, U.S. Environmental Protection Agency, 61 Forsyth Street, SW., Atlanta, Georgia 30303-8960. ((404) 562-9031 (phone) or notarianni.michele@epa.gov (e-mail).)

SUPPLEMENTARY INFORMATION:

I. Background

On February 6, 2003, the Commonwealth of Kentucky, through the Department of Air Quality, submitted a request for parallel processing of a revision to the Kentucky SIP to replace the MVEBs for the Northern Kentucky Maintenance area for 2010. The revision to the MVEBs is allowable because of an available safety margin for volatile organic compounds and nitrogen oxides for the Northern Kentucky portion of the maintenance area. The Commonwealth also identifies subarea budgets for the Ohio portion and the Kentucky portion of the Cincinnati-Hamilton maintenance area for the purposes of implementing transportation conformity. This revision was in response to a request from the Ohio, Kentucky, Indiana Regional Council of Governments for revised MVEBs. Ohio will make a similar request for subarea budgets for this area in an upcoming revision to the Cincinnati-Hamilton maintenance plan.

The Commonwealth's comment period for this action closed March 26, 2003. The Commonwealth held a public meeting on March 26, 2003, to receive final comments on this requested action. With the exception of a request from EPA for a clarification to be provided in the final submittal, the Commonwealth did not receive any comments. On May 15, 2003, EPA received the final SIP revision request from the Commonwealth for final review and approval. As mentioned previously, EPA processed this request on a parallel track to the Commonwealth. On March 19, 2003, (68 FR 13249) EPA published a notice of proposed rulemaking (NPR) to approve the Commonwealth's SIP revision. That NPR provides a detailed description of this action and EPA's rationale for proposed approval. The public comment period for this action ended on April 19, 2003. No comments, adverse or otherwise, were received on EPA's proposal.

II. Final Action

EPA is approving the Commonwealth's SIP revision because it meets all of the requirements of section 110 of the Clean Air Act. Additionally, this SIP revision meets the applicable requirements of the Transportation Conformity Rule.

III. Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by July 29, 2003. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Intergovernmental relations, Nitrogen dioxide, Ozone, Volatile organic compounds.

Dated: May 20, 2003.
A. Stanley Meiburg,
Acting Regional Administrator, Region 4.

Part 52 of chapter I, title 40, of the Code of Federal Regulations, is amended as follows:

PART 52—[AMENDED]

1. The authority citation for part 52 continues to read as follows:

Authority: 42 U.S.C. 7401 et seq.

Subpart S—Kentucky

2. Section 52.920(e) is amended by adding in numerical order a new entry for “Appendix 24” to read as follows:

§ 52.920 Identification of plan.

* * * * *

(e) * * *

EPA-Approved Kentucky Nonregulatory Provisions
Appendix | Title/subject | State effective date | EPA approval date | Federal Register notice
* * * * * * *
24 | Northern Kentucky Maintenance Plan revisions | 05/02/03 | 05/30/03 | [68 FR 32384].

[FR Doc. 03-13417 Filed 5-29-03; 8:45 am]

BILLING CODE 6560-50-P